DEPARTMENT OF ENERGY

Federal Energy Regulatory Commission

[Docket No. RP06-150-000]

Sea Robin Pipeline Company, LLC; Notice of Flowthrough Crediting Mechanism

December 27, 2005.

Take notice that on December 20, 2005, Sea Robin Pipeline Company, LLC (Sea Robin) submitted its Annual Flowthrough Crediting Mechanism Filing. Sea Robin states that this filing was made pursuant to section 22 of the general terms and conditions of Sea Robin's FERC Gas Tariff, which requires the crediting of certain amounts received as a result of resolving monthly imbalances between its gas and liquefiables shippers and under its operational balancing agreements as described in section 6 of its Tariff, and to accumulate amounts received as a result of imposing scheduling penalties as described in section 7 of its Tariff.

Sea Robin further states copies of this filing are being served on all jurisdictional customers, applicable state regulatory agencies and parties to this proceeding.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC. 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time January 3, 2006.

Magalie R. Salas,
Secretary.

[FR Doc. E5-8182 Filed 12-30-05; 8:45 am]

BILLING CODE 6717-01-P